DEPARTMENT OF TRANSPORTATION

Coast Guard

33 CFR Part 165

[CGD01-02-031]

RIN 2115-AA97

Safety Zone; Fore River Channel—Weymouth Fore River—Weymouth, Massachusetts

AGENCY: Coast Guard, DOT.

ACTION: Notice of proposed rulemaking.

SUMMARY: The Coast Guard proposes to establish a temporary safety zone on the Weymouth Fore River in Weymouth, MA, along the main shipping channel, to permit the construction of a temporary bridge over the river adjacent to the existing Route 3A bridge. The 6-day, safety zone enforcement periods we propose would begin this year on June 10, July 15, and July 29 and if the contractor needs additional time to complete the prescribed work, 6-day contingency enforcement periods would begin June 24, August 12, and August 26, 2002. During enforcement periods, the safety zone, which is necessary for the protection of life and property, would temporarily close all waters of the Weymouth Fore River in the area along the main shipping channel, between the fendering system of the bridges, and approximately 200 yards upstream and 100 yards downstream of the Route 3A bridge.

DATES: Comments and related material must reach the Coast Guard on or before May 10, 2002.

ADDRESSES: You may mail comments and related material to Marine Safety Office Boston, 455 Commercial Street, Boston, MA. Marine Safety Office Boston maintains the public docket for this rulemaking. Comments and material received from the public, as well as documents indicated in this preamble as being available in the docket, will become part of the docket and will be available for inspection or copying at Marine Safety Office Boston between 8 A.M. and 3 P.M., Monday through Friday, except Federal holidays.

FOR FURTHER INFORMATION CONTACT: Chief Petty Officer Michael Popovich, Marine Safety y Office Boston, Waterways Safety and Response Division, at (617) 223-3000.

SUPPLEMENTARY INFORMATION:

Request for Comments

We encourage you to participate in this rulemaking by submitting comments and related material. If you do so, please include your name and address, identify the docket number for this rulemaking CGD01-02-031, indicate the specific section of this document to which each comment applies, and give the reason for each comment. You have until May 9, 2002, to comment on this proposed rule involving the Fore River Channel closure. A shortened comment period is necessary to ensure that there is ample time to prepare a final rule and facilitate the first scheduled closure on June 10, 2002. Due to this shortened comment period, in order to provide additional notice to the public, we will place a notice of our proposed rule in the local notice to mariners, post the published Notice of Proposed Rulemaking on the MSO Boston web site at http://www.uscg.mil/d1/units/msobos/, and advise port users of the published NPRM at local port operator group meetings. You may request a copy of this notice via facsimile, by calling Chief Petty Officer Michael Popovich at (617) 223-3000.

Please submit all comments and related material in an unbound format, no larger than 8½ by 11 inches, suitable for copying. If you would like to know your submission reached us, please enclose a stamped, self-addressed postcard or envelope. We will consider all comments and material received during the comment period. We may change this proposed rule in view of them. In our final rule, we will include a concise general statement of the comments received and identify any changes from the proposed rule based on the comments. If we make the final rule effective less than 30 days after publication in the Federal Register, we will explain our good cause for doing so as required by 5 U.S.C. 553(d)(3). These measures are being implemented to ensure the safety of the vessels whose movement is being regulated, others in the maritime community, surrounding communities, and the public.

Public Meeting

We do not now plan to hold a public meeting. However, you may submit a request for a meeting by writing to Marine Safety Office Boston at the address under ADDRESSES explaining why one would be beneficial. If we determine that a public meeting would aid this rulemaking, we will hold one at a time and place announced by a separate notice in the Federal Register.

Background and Purpose

The Massachusetts Highway Department has undertaken a project to erect a temporary bridge adjacent to the existing bridge over the Weymouth Fore River, to temporarily replace the existing bridge as a land transit route. Currently the construction of the temporary bridge is entering the final stages of the project, which involves erection of both bridge gantries as well as the roadway sections. To accomplish this work, it is necessary to position a crane barge in the main shipping channel in the vicinity of the bridges. During the construction periods, the crane barge will obstruct the main shipping channel from vessel transits. Additionally, the work from the crane barge involves lifting large segments of heavy materials, thereby creating a safety hazard to mariners and the public in the vicinity of the crane barge and the construction operation during these periods. A safety zone is necessary to ensure public safety while the construction work is taking place.

We propose to establish a safety zone on all waters, from the surface to the river bottom, within the Weymouth Fore River encompassed by a line connecting points 42°14′34″ N, 070°58′03″ W; 42°14′44″ N, 070°57′59″ W; 42°14′45″ N, 070°58′03″ W; and 42°14′35″ N, 070°58′05″ W, which encloses the area along the main shipping channel, between the fendering system of the bridges, and approximately 200 yards upstream and 100 yards downstream of the Route 3A bridge, for six-day construction periods. The safety zone will effectively close the main shipping channel in the vicinity of the bridges for the construction periods.

Six-day construction periods are necessary because once the crane barge is in position, and materials are staged to erect the bridge sections, this work cannot be interrupted until each section is in place and complete which is estimated to take 6 days. Further, completion of the temporary bridge construction is deemed in the public interest so that a major disruption in the landside transportation infrastructure is not experienced should the existing bridge become unsafe for vehicular traffic.

The proposed safety zone would be enforced from sunrise Monday, June 10, 2002, until sunset on Saturday, June 15, 2002, sunrise Monday, July 15, 2002, until sunset on Saturday, July 20, 2002, and sunrise Monday, July 29, 2002, until sunset on Saturday, August 3, 2002. In the event that the contractor is unable to complete the prescribed work during these periods, there will also be three contingency safety zone enforcement periods from sunrise Monday, June 24, 2002, until sunset on Saturday, June 29, 2002, sunrise Monday, August 12, 2002, until sunset Saturday, August 17, 2002, and from sunrise Monday, August , 2002, until sunset Saturday, August 31, 2002.

The safety zone is deemed necessary for the protection of life and property within the Captain of the Port (COTP) Boston zone. Public notifications will be made prior to the effective period via safety marine information broadcasts and local notice to mariners.

Regulatory Evaluation

Although this proposed regulation will prevent vessel traffic from transiting a portion of the Weymouth Fore River main shipping channel during the effective periods, the impact is not considered significant for several reasons. Impacted entities include one commercial oil transfer facility that receives large tank vessels, the Massachusetts Water Resources Authority (MWRA), which barges sludge to a facility in Quincy, Massachusetts, and numerous marinas, yacht clubs, and boat yards upstream of the Route 3A bridge. The Massachusetts Highway Department and its contractor, Middlesex Corporation, have met with these stakeholders to attempt to minimize impacts. Both the oil terminal and MWRA are able to, and have agreed to, work their vessel transit schedules around the 6-day periods during which the safety zone will be enforced without significant negative economic impact.

Marinas, yacht clubs, boat yards, and the boating public will not be severely impacted because an alternate water route (channel) will be available for transit on the western (Quincy) side of the main channel during the construction periods when the safety zone is enforced. Temporary aids to navigation and lighting will be placed to facilitate use of the alternate water route. This alternate route will provide an alternative for many of the waterway users to transit outside of the safety zone and under the western (Quincy) side of both the temporary bridge span and the existing Route 3A bridge span during the periods that the safety zone will be enforced.

We have been advised by Middlesex Corporation, the contractor for the Massachusetts Highway Department, that they performed soundings, measured vertical clearances, and dragged the bottom for obstructions within the proposed alternate channel. The results of their measurements indicate the following clearances: Maximum vertical clearance (channel margin) at high tide is 30 feet; maximum vertical clearance (channel margin) at low tide is 39 feet; minimum water depth at low tide is 14 feet; maximum horizontal clearance between pier fenders is 75 feet.

Additionally, stakeholders are being provided advanced notice of the safety zone well in advance, through this rulemaking process, enabling them to make alternate arrangements in lieu of transiting the restricted area during the enforcement periods. Notifications will also be made to the local maritime community by safety marine information broadcasts and local notice to mariners.

For the reasons stated, this proposed rule is not a “significant regulatory action” under section 3(f) of Executive Order 12866 and does not require an assessment of potential costs and benefits under section 6(a)(3) of that Order. The Office of Management and Budget has not reviewed it under that Order. It is not significant under the regulatory policies and procedures of the Department of Transportation (DOT)(44 FR 11040, February 26, 1979). The Coast Guard expects the economic impact of this proposed rule to be minimal enough that a full Regulatory Evaluation under paragraph 10e of the regulatory policies and procedures of DOT is unnecessary.

Small Entities

Under the Regulatory Flexibility Act (5 U.S.C. 601-612), the Coast Guard considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities. This proposed rule will affect the following entities, some of which may be small entities: the owners or operators of vessels intending to transit the Fore River main channel during the construction periods when the safety zone is enforced; or marinas, yacht clubs, and boat yards that service these vessels. For reasons outlined in the Regulatory Evaluation section, this impact is not expected to be significant.

If you think that your business, organization, or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please contact Chief Petty Officer Michael Popovich at the address listed under ADDRESSES.

Collection of Information

This proposed rule would call for no new collection of information under the Paperwork Reduction Act of 1995 (44 U.S.C. 3501-3520).

Federalism

The Coast Guard analyzed this proposed rule under Executive Order 13132 and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

The Coast Guard analyzed this proposed rule under Executive Order 13045, Protection of Children from Environmental Health Risks and Safety Risks. This proposed rule is not an economically significant rule and does not pose an environmental risk to health or risk to safety that may disproportionately affect children.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this proposed rule and concluded that, under figure 2-1, (34)(g), of Commandant Instruction M16475.lC, this proposed rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add temporary § 165.T01-031 to read as follows:

§ 165.T01-031 Safety Zone: Fore River Channel, Weymouth Fore River, Weymouth, MA.

(a) Location. The following area is a safety zone: all waters from the surface to the river bottom within the Weymouth Fore River encompassed by a line connecting points 42°14′34″ N, 070°58′03″ W; 42°14′44″ N, 070°57′59″ W; 42°14′45″ N, 070°58′03″ W; and 42°14′35″ N, 070°58′05″ W, which encloses the area along the main shipping channel, between the fendering system of the bridges, and approximately 200 yards upstream and 100 yards downstream of the Route 3A bridge.

(b) Effective period. This section is effective from sunrise June 10, 2002 until sunset on August 3, 2002.

(c) Enforcement periods. This section will be enforced from Monday, June 10, 2002, until sunset on Saturday, June 15, 2002; from sunrise Monday, July 15, 2002, until sunset on Saturday, July 20, 2002; and from sunrise Monday, July 29, 2002, until sunset on Saturday, August 3, 2002. In the event that the contractor is unable to complete the prescribed work during these closures, there will also be three contingency enforcement periods: from sunrise Monday, June 24, 2002, until sunset on Saturday, June 29, 2002; from sunrise Monday, August 12, 2002, until sunset Saturday, August 17, 2002; and from sunrise Monday, August 26, 2002 until sunset Saturday, August 31, 2002. Whenever the Captain of the Port (COTP) determines that a safety zone in effect is not needed for the entire 6-day period to accomplish the purposes of this rule due to completion of scheduled work, the COTP will discontinue enforcement of the safety zone for that period and issue a broadcast notice to mariners (BNTM) so informing the public.

(d) Regulations. (1) In accordance with the general regulations in § 165.23, entry into or movement within this zone will be prohibited unless authorized by the Captain of the Port Boston. Requests to enter the safety zone can be made by calling Marine Safety Office Boston at (617) 223-3000.

(2) All vessel operators shall comply with the instructions of the COTP or the designated on-scene U.S. Coast Guard patrol personnel. On-scene Coast Guard patrol personnel include commissioned, warrant, and petty officers of the Coast Guard on board Coast Guard, Coast Guard Auxiliary, local, state, and federal law enforcement vessels.

Dated: March 28, 2002.
B. M. Salerno,
Captain, U. S. Coast, Guard, Captain of the Port, Boston, Massachusetts.

[FR Doc. 02-8591 Filed 4-9-02; 8:45 am]

BILLING CODE 4910-15-U